Title 3—

The President

Proclamation 8261 of May 23, 2008

National Hurricane Preparedness Week, 2008

By the President of the United States of America

A Proclamation

National Hurricane Preparedness Week highlights the vital importance of being prepared when natural disasters strike.

Tropical storms can cause destruction over entire regions and claim the lives of many of our citizens. We can help reduce vulnerability in our communities by encouraging all citizens to be prepared and to work together. Maintaining emergency supply kits and family communication plans, and knowing what to do in an emergency can help save lives. For more information on hurricane preparedness, Americans can visit ready.gov and fema.gov to find checklists and other valuable resources to help them get prepared.

My Administration continues to support efforts to strengthen how Americans prepare for and respond to disasters. The National Oceanic and Atmospheric Administration works to predict and track storms so that citizens are more aware of potential storms. The Department of Homeland Security's Federal Emergency Management Agency (FEMA) has improved communication between Federal, State, local government, and the private sector in order to help citizens stay informed and receive the help they need. By working together, we can better prepare for, respond to, and recover from hurricanes and reduce the harm to our citizens and our communities.

As hurricane season approaches, we also express our gratitude to the volunteers and first responders who help their fellow citizens in their time of need.

NOW, THEREFORE, I, GEORGE W. BUSH, President of the United States of America, by virtue of the authority vested in me by the Constitution and the laws of the United States, do hereby proclaim May 25 through May 31, 2008, as National Hurricane Preparedness Week. I call upon government agencies, private organizations, schools, and the media to share information about hurricane preparedness. I also urge all Americans living in vulnerable coastal areas to take appropriate measures and precautions to protect themselves, their homes, and their communities against the effects of hurricanes.

IN WITNESS WHEREOF, I have hereunto set my hand this twenty-third day of May, in the year of our Lord two thousand eight, and of the Independence of the United States of America the two hundred and thirty-second.

[FR Doc. 08-1310

Filed 5-28-08; 8:50 am]

Billing code 3195-01-P